DEPARTMENT OF JUSTICE

Antitrust Division

Notice Pursuant to the National Cooperative Research and Production Act of 1993—VSI Alliance

Notice is hereby given that, on January 16, 2001, pursuant to section 6(a) of the National Cooperative Research and Production Act of 1993, 15 U.S.C. 4301 et seq. (“the Act”), VSI Alliance has filed written notifications simultaneously with the Attorney General and the Federal Trade Commission disclosing changes in its membership status. The notifications were filed for the purpose of extending the Act's provisions limiting the recovery of antitrust plaintiffs to actual damages under specified circumstances. Specifically, 3 DSP Corporation, Irvine, CA; Alatek, Inc., Las Vegas, NV; D.K. Arvind, Edinburgh, Scotland, United Kingdom; ASIC Alliance Corp., Woburn, MA; CG-CorEL Programmable Solutions Ltd., Bangalore, India; Edoardo Charbon, Berkeley, CA; EnThink, Inc., Santa Clara, CA; ETRI Microelectronics Technology Laboratory, Daejon, Republic of Korea; Goya Technology, Inc., Hsin-chu, Taiwan; IMEC; Leuven, Belgium; Intensys, San Jose, CA; Kun-Bin Lee, Hsin-chu, Taiwan; Mysti Com Ltd., Mountain View, CA; Nogatech Ltd., Kfar-Saba, Israel; Silicon Design Solutions, Milpitas, CA; Simplex Solutions, Inc., Sunnyvale, CA; Synad Technologies Limited, Marlow, United Kingdom; SynTest Technologies, Inc., Sunnyvale, CA; and Tensilia, Inc., Santa Clara, CA have been added as parties to this venture. Also, Adaptec, Inc., Milpitas, CA; Arasan Chip Systems, San Jose, CA; Johan Cockx, Leuven, Belgium; Enabling Technology, Inc., Sunnyvale, CA; Nxtwave Communications, Inc., Newtown, PA; PIXIM, Inc., Mountain View, CA; Patrick Schaumont, Leuven, Belgium; Verysys Corp., Fremont, CA; Virage Logic Corp., Fremont, CA; and Voyager Technologies, Inc., Morgan Hill, CA have been dropped as parties to this venture.

No other changes have been made in either the membership or planned activity of the group research project. Membership in this group research project remains open, and VSI Alliance intends to file additional written notification disclosing all changes in membership.

On November 29, 1996, VSI Alliance filed its original notification pursuant to section 6(a) of the Act. The Department of Justice published a notice in the Federal Register pursuant to section 6(b) of the Act on March 4, 1997 (62 FR 9812).

The last notification was filed with the Department on October 26, 2000. A notice has not yet been published in the Federal Register.

Constance K. Robinson,
Director of Operations, Antitrust Division.

[FR Doc. 01-6881 Filed 3-19-01; 8:45 am]

BILLING CODE 4410-11-M